DEPARTMENT OF THE INTERIOR

Fish and Wildlife Service

[FWS-R1-ES-2011-N080; 10120-1113-0000-F5]

Endangered Plants and Wildlife; Receipt of Applications for Enhancement of Survival Permits

AGENCY: Fish and Wildlife Service, Interior.

ACTION: Notice of availability of permit applications; request for comments.

SUMMARY: In accordance with the requirements of the Endangered Species Act of 1973, as amended (Act), we, the U.S. Fish and Wildlife Service (Service), invite the public to comment on applications for permits to conduct enhancement of survival activities with endangered species.

DATES: To ensure consideration, please send your written comments by June 20, 2011.

ADDRESSES: Comments can be sent to the Endangered Species Program Manager, Ecological Services, U.S. Fish and Wildlife Service, 911 NE., 11th Avenue, Portland, OR 97232-4181.

FOR FURTHER INFORMATION CONTACT: Linda Belluomini, Fish and Wildlife Biologist, at the above address or by telephone (503-231-6131) or fax (503-231-6243).

SUPPLEMENTARY INFORMATION: The following applicants have applied for recovery or interstate commerce permits to conduct certain activities with endangered species under section 10(a)(1)(A) of the Act (16 U.S.C. 1531 et seq.). We are soliciting review of and comments on these applications by local, State, and Federal agencies, and the public.

Permit No. TE-39185A

Applicant: Pei-Luen Lu, Honolulu, Hawaii.

The applicant requests a permit to remove and reduce to possession (collect plant parts) Pleomele hawaiiensis (halapepe) at Hawaii Volcanoes National Park, Hawaii Island, Hawaii, in conjunction with genetic research for the purpose of enhancing its survival.

Permit No. TE-149068

Applicant: Eric VanderWerf, Honolulu, Hawaii.

The permittee requests a permit amendment to take (harass by survey using taped-playback; monitor nests) the Oahu elepaio (Chasiempis sandwichensis ibidis) on Oahu Island, Hawaii, in conjunction with life history studies for the purpose of enhancing its survival.

Permit No. TE-40123A

Applicant: Pohakuloa Training Area, U.S. Army, Hilo, Hawaii.

The permittee requests an amendment to remove and reduce to possession (collect plants and their parts) Asplenium peruviana var. insulare (fragile fern), Haplostachys haplostachya (honohono), Kadua coriacea (kioele), Isodendrion hosakae (aupaka), Melanthera venosa (spreading nehe), Neraudia ovata (maoloa), Portulaca sclerocarpa (poe), Silene lanceolata (lance-leaf catchfly), Solanum incompletum (popolo ku mai), Spermolepis hawaiiensis (Hawaiian parsley), Stenogyne angustifolia (creeping mint), Tetramolopium arenarium (Mauna Kea pamakani), Vigna o-wahuensis (Oahu cowpea), and Zanthoxylum hawaiiense (ae) at Pohakuloa Training Area, Hawaii Island, Hawaii, in conjunction with ex situ genetic storage, controlled propagation, and outplanting for the purpose of enhancing their survival.

Permit No. TE-043628

Applicant: Institute for Applied Ecology, Corvallis, Oregon.

The permittee requests an amendment to remove and reduce to possession (collect plants and their parts) Lomatium cookii (Cook's lomatium) in Josephine County, Oregon, in conjunction with controlled propagation and outplanting for the purpose of enhancing its survival.

Permit No. TE-40138A

Applicant: Duckcrossing Game Farm, Isantic, Minnesota.

The applicant requests an interstate commerce permit to purchase nene geese (Branta sandvicensis) in conjunction with captive propagation in Isantic, Minnesota for the purpose of enhancing its survival.

Permit No. TE-42195A

Applicant: U.S. Navy.

The applicant requests a permit to take (harass by survey using taped-playback) the Mariana common moorhen (Gallinula chloropus guami) on Guam, in conjunction with life history studies for the purpose of enhancing its survival.

Public Comments

We are soliciting public review and comment on these recovery permit applications. Submit written comments to the Endangered Species Program Manager (see address above). Before including your address, phone number, e-mail address, or other personal identifying information in your comment, you should be aware that your entire comment—including your personal identifying information—may be made publicly available at any time. While you can ask us in your comment to withhold your personal identifying information from public review, we cannot guarantee that we will be able to do so.

Please refer to the appropriate permit number for the application when submitting comments. All comments and materials we receive in response to this request will be available for public inspection, by appointment, during normal business hours at the above address.

Dated: May 12, 2011.
Richard R. Hanman,
Acting Regional Director, Region 1, U.S. Fish and Wildlife Service.

[FR Doc. 2011-12345 Filed 5-18-11; 8:45 am]

BILLING CODE 4310-55-P